DEPARTMENT OF TRANSPORTATION

Coast Guard

[USCG-2002-11843]

National Environmental Policy Act: Coast Guard Procedures for Categorical Exclusions

AGENCY: Coast Guard, DOT.

ACTION: Notice of final agency policy.

SUMMARY: The Coast Guard revised its list of agency actions that we have determined do not individually or cumulatively have a significant effect on the human environment and, thus, are categorically excluded from the requirement to prepare an environmental assessment or environmental impact statement under the National Environmental Policy Act (NEPA). Consistent with the Council on Environmental Quality's regulations for implementing the procedural provisions of NEPA, the Coast Guard periodically reviews its NEPA implementing procedures and determines whether it is necessary to clarify some existing categorical exclusions (CEs) to prevent misinterpretation and to create new CEs to reduce excessive and needless paperwork for actions that have proven to have no potential for significant impacts. The purpose of this notice is to provide the public our final list of new and revised categorical exclusions.

DATES: The new and revised categorical exclusions are effective as of July 23, 2002.

ADDRESSES: The Docket Management Facility maintains the public docket for this notice. Any comments and material received from the public, as well as this notice, and our April 8, 2002 notice requesting comments, are part of this docket (USCG-2002-11843) and available for inspection or copying at room PL-401 on the Plaza level of the Nassif Building, 400 Seventh Street SW., Washington, DC, between 9 a.m. and 5 p.m., Monday through Friday, except Federal holidays. You may also find this docket on the Internet at http://dms.dot.gov.

FOR FURTHER INFORMATION CONTACT: Ms. Kebby Kelley, Office of Civil Engineering, Environmental Management Division, U.S. Coast Guard, Headquarters, 202-267-6034 or via email at kkelley@comdt.uscg.mil.

SUPPLEMENTARY INFORMATION:

Background

The National Environmental Policy Act (NEPA) (42 U.S.C. 4321 et seq.) established the Council on Environmental Quality (CEQ). NEPA and CEQ regulations (40 CFR parts 1500-1508) establish a broad national policy which encourages and promotes productive harmony between man and his environment and provides policies and goals to ensure that environmental considerations and associated public concerns are given careful weight in all decisions of the Federal government.

Section 102 of NEPA (42 USCS 4332) and 40 CFR 1507.3 require Federal agencies to develop and, as needed, revise implementing procedures consistent with NEPA and the CEQ regulations. Additionally, 40 CFR 1500.4 and 1500.5 require Federal agencies to use categorical exclusions (CEs) to reduce excessive paperwork and reduce delay.

To determine whether improvements are needed in its list of agency actions that we have determined are categorically excluded from further NEPA environmental impact analysis, the Coast Guard periodically reviews its list. This list of CEs is contained in section 2.B.2, figure 2-1, of the “Coast Guard National Environmental Policy Act (NEPA) Implementing Procedures and Policy for Considering Environmental Impacts,” (Commandant Instruction M16475.1D).

During the most recent review, NEPA-related information in our project administrative records was examined to determine whether the current CEs were being applied consistently and appropriately. Areas of confusion or misinterpretation were identified for further evaluation. Also, the Coast Guard evaluated whether new CEs would be appropriate to further reduce needless paperwork and delay.

Where areas of confusion or misinterpretation with the existing CEs were identified, the Coast Guard evaluated whether the situation could be resolved through improvements in internal guidance, modifications to the existing CEs, or the development of new CEs. Evaluations in these cases included both an examination of the administrative record, as well as, experiences of expert staff in working with the existing CEs. Modifications of existing CEs and new CEs were done where appropriate to resolve areas of confusion or misinterpretation of the existing CE list.

The need for other new CEs was identified by examination of Environmental Assessments (EAs), and associated Findings of No Significant Impact (FONSIs) for similar or like actions. Where it was found that EAs with FONSIs existed for many similar or like actions, a new CE was created. The working group also received input from other Coast Guard staff as to actions that were not currently categorically excluded but should be based on their experience that such projects normally had no significant environmental impacts.

The working group determined that new CEs were needed for several categories of Coast Guard personal and real property actions. The working group then benchmarked the CEs against those of the General Services Administration (GSA) as the expert agency in terms of personal and real property management for the Federal government. Since other new CEs involved Coast Guard operations, the working group used the Department of the Navy as a benchmark because many of the Navy's actions are similar operationally, albeit at a much larger scale. Coast Guard CEs were then developed to address Coast Guard actions.

Finally, one new and one revised CE for regulatory actions were created. The new regulatory CE was created for regulatory actions mandated by Congress for the improvement or protection of the environment. The working group found that the Coast Guard had multiple EAs with FONSIs for regulations of this type, and, after reviewing the regulations and their environmental aspects, they determined that these types of actions do not normally have significant effects either individually or cumulatively on the human environment.

The recommended list of new and modified CEs developed by the working group was then extensively reviewed within the Coast Guard. This draft list of proposed changes was then also reviewed by, and discussed with, CEQ. Further revisions were made based on CEQ comments.

Discussion of Response to Request for Comments

The resulting list of proposed changes was published in the Federal Register on April 8, 2002 (67 FR 16787) with a request for comments to be submitted by May 8, 2002. The Coast Guard received no comments on the draft list; therefore, the draft list has now become our final list of new and revised CEs. The final list was sent to DOT and CEQ for final review and approval. No additional substantive revisions were made by either DOT or CEQ. The final list of new and revised CEs is now available in the appendix to this notice and will also be available in the docket (as indicated under ADDRESSES).

Proposed Changes Adopted as Final

In our April 2002 notice we described changes we proposed to make. These changes have now been adopted as final.

Our revisions to Section 2.B.2, Figure 2-1, of M16475.1D, entitled, “Coast Guard Categorical Exclusions” consist of three related parts. The first part is a non-substantive administrative reorganization of the Coast Guard's CEs to group CEs for like actions together under an appropriate general heading. The second part is a revision requiring that a written Categorical Exclusion Determination (CED) be prepared for the administrative record whenever a CE calls for the preparation of a written environmental checklist (checklist). The third part is a substantive addition of new and modified CEs.

A CED is a 1- or 2-page Coast Guard document that states the Coast Guard project being proposed and the CE that is applicable. Our administrative procedures (contained in the Commandant Instruction M16475.1 series) require that the applicability of each CE be examined for extraordinary circumstances for each specific action. The checklist is a tool that is designed to assist us in determining whether there are any extraordinary circumstances that might require preparation of an Environmental Impact Statement (EIS) or an EA.

The CEQ regulations implementing NEPA require agencies to consider extraordinary circumstances and to define categories of agency actions that do not have the potential for significant impacts (that is, categorically excluded actions); however, they do not require that such consideration of extraordinary circumstances or agency use of CEs be documented. Thus, both, the CED and the checklist are internal Coast Guard administrative requirements to ensure that the potential for impacts on the human environment are given adequate consideration in proposed Coast Guard actions and are not required by NEPA law or regulation.

We are requiring that a CED be prepared whenever a checklist is required for a Coast Guard CE. Currently, checklists are required for those CEs covering actions which experience has shown could be likely to occasionally involve unusual circumstances that might make the CE inappropriate in certain instances.

Our CE revision also consists of new and modified CEs, the majority of which address real and personal property actions. A few additional modifications and new CEs were created for certain Coast Guard operations, specific Coast Guard environmental studies, and two types of Coast Guard regulatory actions.

These new and modified CEs represent actions that, based on our past experience with similar actions, do not normally require an EA or EIS because they do not individually or cumulatively have a significant effect on the human environment. We now have CEs for certain situations in which the Coast Guard acquires, or arranges for permitted use of, property. At the time of acquisition or arrangement for permitted use of the property, we will use our Environmental Analysis Checklist to determine whether a CE is appropriate or if an EIS or EA is required. If a CE is appropriate, the Coast Guard will prepare a written CED.

If, in the future, the Coast Guard determines the need to change the use of the property, we will conduct the appropriate NEPA analysis and prepare the documentation—either another CE, an environmental assessment, or an environmental impact statement on the proposed new use. The earlier acquisition or permit use arrangement for the property will not influence the subsequent environmental analysis and documentation, including the need to use the property for the proposed new use, the consideration of alternatives, or selection of the preferred alternative.

Synopsis of Changes

The general changes we have made to the Coast Guard CEs are that the CEs will now be reorganized by action type as: Administrative Actions, Real and Personal Property Actions, Training Actions, Operational Actions, Special Studies, Bridge Administration Actions, and Regulatory Actions. Additionally, all CEs requiring a checklist will also now require a CED.

The final new or amended CEs are listed in the appendix to this notice. Previously existing Coast Guard CEs that remain unchanged are not included in the appendix.

Dated: July 15, 2002.
J.A. Kinghorn,
Rear Admiral, Coast Guard, Assistant Commandant for Systems.

Appendix to National Environmental Policy Act: Coast Guard Procedures for Categorical Exclusions, Notice of Final Agency Policy.*

1. Administrative Actions

a. Personnel and other administrative actions associated with consolidations, reorganizations, or reductions in force resulting from identified inefficiencies, reduced personnel or funding levels, skill imbalances, or other similar causes. (Checklist and CED required.)

b. Approval of recreational activities or events (such as a Coast Guard unit picnic) at a location developed or created for that type of activity.

2. Real and Personal Property Related Actions (where the term “real property” is used throughout this section, it means real and any related personal property—and the term “related personal property” means personal property that is an integral part of the subject real property and removal of the personal property would significantly diminish the economic value of the subject real property).

a. The initial lease of, or grant of an easement interest in, Coast Guard-controlled real property to a non-Federal party or the amendment, renewal, or termination of such lease or easement interest where the reasonably foreseeable real property use will not change significantly and is similar to existing uses. (Checklist and CED required.)

b. The grant of a license to a non-Federal party to perform specified acts upon Coast Guard-controlled real property or the amendment, renewal, or termination of such license where the proposed real property use is similar to existing uses. (Checklist and CED required.)

c. Allowing another Federal agency to use Coast Guard-controlled real property under a permit, use agreement, or similar arrangement or the amendment, renewal, or termination of such permit or agreement where real property use is similar to existing uses. (Checklist and CED required.)

d. The lease of a Coast Guard-controlled historic lighthouse property to a non-Federal party as outlined in the Programmatic Memorandum of Agreement between the Coast Guard, Advisory Council on Historic Preservation, and the National Conference of State Historic Preservation Officers. (Checklist and CED required.)

e. Acquisition of real property (including fee simple estates, leaseholds, and easements) improved or unimproved, and related personal property from a non-Federal party by purchase, lease, donation, or exchange where the proposed real property use is similar to existing uses for the foreseeable future (acquisition through condemnation not covered). (Checklist and CED required.)

f. Acquisition of real property and related personal property through transfer of administrative control from another Department of Transportation (DOT) component or another Federal agency to the Coast Guard where title to the property remains with the United States including transfers made pursuant to the Defense Base Closure and Realignment Act of 1990, Pub. L. 101-510, as amended, (10 U.S.C. 2687 note) and where the proposed Coast Guard real property use is similar to existing uses. (Checklist and CED required.)

g. Coast Guard use of real property under the administrative control of another DOT component or another Federal agency through a permit, use agreement, or similar arrangement where the proposed real property use is similar to existing uses. (Checklist and CED required.)

h. Coast Guard new construction upon, or improvement of, land where all of the following conditions are met (Checklist and CED required.):

• The structure and proposed use are substantially in compliance with prevailing local planning and zoning standards.

• The site is on heavily developed property and/or located on a previously disturbed site in a developed area.

• The proposed use will not substantially increase the number of motor vehicles at the facility.

• The site and scale of construction are consistent with those of existing, adjacent, or nearby buildings.

i. Real property inspections for compliance with deed or easement restrictions.

j. Transfer of administrative control over real property from the Coast Guard to another Department of Transportation (DOT) component or another Federal agency (title to the property remains with the United States) that results in no immediate change in use of the property. (Checklist and CED required.)

k. Determination by the Coast Guard that real property is excess to its needs, pursuant to the Federal Property and Administrative Services Act of 1949 (40 U.S.C. 471 et seq.), and the subsequent reporting of such determination to the Administrator of the General Services Administration or the subsequent filing of a notice of intent to relinquish lands withdrawn or reserved from the public domain with the Bureau of Land Management, Department of Interior, in accordance with 43 CFR part 2370. (Checklist and CED required.)

l. Congressionally mandated conveyance of Coast Guard controlled real property to another Federal agency or non-Federal entity. (Checklist and CED required.)

m. Relocation of Coast Guard personnel into existing Federally owned or leased space where use does not change substantially and any attendant modifications to the facility would be minor.

n. Decisions to temporarily or permanently decommission, disestablish, or close Coast Guard shore facilities including any follow-on connected protection and maintenance needed to maintain the property until it is no longer under Coast Guard control. (Checklist and CED required.)

o. Demolition of buildings, structures, or fixtures and disposal of subsequent building, structure, or fixture waste materials. (Checklist and CED required.)

p. Determination by the Coast Guard that Coast Guard controlled personal property, including vessels and aircraft, is “excess property,” as that term is defined in the Federal Property and Administrative Services Act of 1949 (40 U.S.C. 472(e)), and any subsequent transfer of such property to another Federal agency's administrative control or conveyance of the United States' title in such property to a non-Federal entity. (Checklist and CED required.)

q. Minor renovations and additions to buildings, roads, airfields, grounds, equipment, and other facilities that do not result in a change in functional use of the real property, (e.g., realigning interior spaces of an existing building, extending an existing roadway in a developed area a short distance, installing a small antenna on an already existing antenna tower, adding a small storage shed to an existing building, etc.) (Checklist and CED required.)

r. Installation of devices to protect human or animal life such as raptor electrocution prevention devices, fencing to restrict wildlife movement on to airfields, and fencing and grating to prevent accidental entry to hazardous areas. (Checklist and CED required.)

3. Training

a. Defense preparedness training and exercises conducted on Coast Guard-controlled property that do not involve undeveloped property or increased noise levels over adjacent property and involve a limited number of personnel, such as exercises involving primarily electronic simulation or command post personnel. (Checklist and CED required.)

4. Operational Actions

a. Realignment or initial homeporting of mobile assets, including vessels and aircraft, to existing operational facilities that have the capacity to accommodate such assets or where supporting infrastructure changes will be minor in nature to perform as new homeports or for repair and overhaul.

Note: If the realignment or homeporting would result in more than a one for one replacement of assets at an existing facility, then the checklist required for this CE must specifically address whether such an increase in assets could trigger the potential for significant impacts to protected species or habitats before use of the CE can be approved. (Checklist and CED required.)

5. Special Studies

a. Environmental site characterization studies and environmental monitoring including: Siting, constructing, operating, and dismantling or closing of characterization and monitoring devices. Such activities include but are not limited to the following:

• Conducting geological, geophysical, geochemical, and engineering surveys and mapping, including the establishment of survey marks.

• Installing and operating field instruments, such as stream-gauging stations or flow-measuring devices, telemetry systems, geochemical monitoring tools, and geophysical exploration tools.

• Drilling wells for sampling or monitoring of groundwater, well logging, and installation of water-level recording devices in wells.

• Conducting aquifer response testing.

• Installing and operating ambient air monitoring equipment.

• Sampling and characterizing water, soil, rock, or contaminants.

• Sampling and characterizing water effluents, air emissions, or solid waste streams.

• Sampling flora or fauna.

• Conducting archeological, historic, and cultural resource identification and evaluation studies in compliance with 36 CFR part 800 and 43 CFR part 7.

• Gathering data and information and conducting studies that involve no physical change to the environment. Examples include topographic surveys, bird counts, wetland mapping, and other inventories.

6. Regulatory Actions

a. Regulations concerning vessel operation safety standards (e.g., regulations requiring: certain boaters to use approved equipment which is required to be installed such as an ignition cut-off switch, or carried on board, such as personal flotation devices (PFDs), and/or stricter blood alcohol concentration (BAC) standards for recreational boaters, etc.), equipment approval, and/or equipment carriage requirements (e.g., personal flotation devices (PFDs) and visual distress signals (VDS's)).

b. Congressionally mandated regulations designed to improve or protect the environment (e.g., regulations implementing the requirements of the Oil Pollution Act of 1990, such as those requiring vessels to have the capability to transmit and receive on radio channels that would allow them to receive critical safety and navigation warnings in U.S. waters, regulations to increase civil penalties against persons responsible for the discharge of oil or hazardous substances into U.S. waters, etc.). (Checklist and CED required.)

* Note to Appendix: The final new or amended CEs are listed in the appendix to this notice. Previously existing Coast Guard CEs that remain unchanged are not included in the appendix.

[FR Doc. 02-18475 Filed 7-22-02; 8:45 am]

BILLING CODE 4910-15-P